DEPARTMENT OF HOMELAND SECURITY

Federal Emergency Management Agency

[Docket ID FEMA-2017-0002; Internal Agency Docket No. FEMA-B-1773]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before March 29, 2018.

ADDRESSES: The Preliminary FIRM, and where applicable, the FIS report for each community are available for inspection at both the online location https://www.fema.gov/preliminaryfloodhazarddata and the respective Community Map Repository address listed in the tables below. Additionally, the current effective FIRM and FIS report for each community are accessible online through the FEMA Map Service Center at https://msc.fema.gov for comparison.

You may submit comments, identified by Docket No. FEMA-B-1773, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://www.fema.gov/preliminaryfloodhazarddata and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Dated: December 13, 2017.
Roy E. Wright,
Deputy Associate Administrator for Insurance and Mitigation, Department of Homeland Security, Federal Emergency Management Agency.

Community | Community map repository address
DuPage County, Illinois and Incorporated Areas
Project: 07-05-5715S Preliminary Date: June 1, 2017
City of Aurora | City Hall, Engineering Department, 44 East Downer Place, Aurora, IL 60507.
City of Chicago | Department of Buildings, Stormwater Management, 121 North LaSalle Street, Room 906, Chicago, IL 60602.
City of Darien | City Hall, 1702 Plainfield Road, Darien, IL 60561.
City of Elmhurst | City Hall, 209 North York Street, Elmhurst, IL 60126.
City of Naperville | City Hall, 400 South Eagle Street, Naperville, IL 60540.
City of Oak Brook Terrace | City Hall, 17W275 Butterfield Road, Oakbrook Terrace, IL 60181.
City of Warrenville | City Hall, 28W701 Stafford Place, Warrenville, IL 60555.
City of West Chicago | City Hall, 475 Main Street, West Chicago, IL 60185.
City of Wheaton | City Hall, 303 West Wesley Street, Wheaton, IL 60187.
City of Wood Dale | City Hall, 404 North Wood Dale Road, Wood Dale, IL 60191.
Unincorporated Areas of DuPage County | County Administration Building, Stormwater Management, 421 North County Farm Road, Wheaton, IL 60187.
Village of Addison | Village Hall, 1 Friendship Plaza, Addison, IL 60101.
Village of Bartlett | Village Hall, 228 South Main Street, Bartlett, IL 60103.
Village of Bensenville | Village Hall, 12 South Center Street, Bensenville, IL 60106.
Village of Bloomingdale | Village Hall, 201 South Bloomingdale Road, Bloomingdale, IL 60108.
Village of Bolingbrook | Village Hall, 375 West Briarcliff Road, Bolingbrook, IL 60440.
Village of Burr Ridge | Village Hall, 7660 County Line Road, Burr Ridge, IL 60527.
Village of Carol Stream | Village Hall, 505 East North Avenue, Carol Stream, IL 60188.
Village of Clarendon Hills | Village Hall, 1 North Prospect Avenue, Clarendon Hills, IL 60514.
Village of Downers Grove | Village Hall, 801 Burlington Avenue, Downers Grove, IL 60515.
Village of Elk Grove Village | Village Hall, 901 Wellington Avenue, Elk Grove Village, IL 60007.
Village of Glendale Heights | Village Hall, 300 Civic Center Plaza, Glendale Heights, IL 60139.
Village of Glen Ellyn | Village Hall, 535 Duane Street, Glen Ellyn, IL 60137.
Village of Hanover Park | Village Hall, 2121 Lake Street, Hanover Park, IL 60133.
Village of Hinsdale | Village Hall, 19 East Chicago Avenue, Hinsdale, IL 60521.
Village of Itasca | Village Hall, 550 West Irving Park Road, Itasca, IL 60143.
Village of Lemont | Village Hall, 418 Main Street, Lemont, IL 60439.
Village of Lisle | Village Hall, 925 Burlington Avenue, Lisle, IL 60532.
Village of Lombard | Village Hall, 255 East Wilson Avenue, Lombard, IL 60148.
Village of Oak Brook | Village Hall, 1200 Oak Brook Road, Oak Brook, IL 60523.
Village of Roselle | Village Hall, 31 South Prospect Street, Roselle, IL 60172.
Village of Schaumburg | Village Hall, 101 Schaumburg Court, Schaumburg, IL 60193.
Village of Villa Park | Village Hall, 20 South Ardmore Avenue, Villa Park, IL 60181.
Village of Wayne | Village Hall, 5N430 Railroad Street, Wayne, IL 60184.
Village of Westmont | Village Hall, 31 West Quincy Street, Westmont, IL 60559.
Village of Willowbrook | Village Hall, 835 Midway Drive, Willowbrook, IL 60527.
Village of Winfield | Village Hall, 27W465 Jewell Road, Winfield, IL 60190.
Village of Woodridge | Village Hall, 5 Plaza Drive, Woodridge, IL 60517.
Charlevoix County, Michigan (All Jurisdictions)
Project: 16-05-4378S Revised Preliminary Date: August 19, 2016
Little Traverse Bay Bands of Odawa Indians | Government Center, 7500 Odawa Circle, Harbor Springs, MI 49740.
Snohomish County, Washington and Incorporated Areas
Project: 12-10-0359S Preliminary Dates: July 22, 2016, January 31, 2017 and July 31, 2017
City of Arlington | City Hall, 238 North Olympic Avenue, Arlington, WA 98223.
City of Bothell | City Hall, 18415 101st Avenue Northeast, Bothell, WA 98011.
City of Brier | City Hall, 2901 228th Street Southwest, Brier, WA 98036.
City of Edmonds | City Hall, 121 5th Avenue North, Edmonds, WA 98020.
City of Everett | City Hall, 2930 Wetmore Avenue, Suite 10-A, Everett, WA 98201.
City of Gold Bar | City Hall, 107 5th Street, Gold Bar, WA 98251.
City of Granite Falls | City Hall, 206 South Granite Avenue, Granite Falls, WA 98252.
City of Lake Stevens | City Hall, 1812 Main Street, Permit Center, Lake Stevens, WA 98258.
City of Lynnwood | City Hall, 19100 44th Avenue West, Lynnwood, WA 98036.
City of Marysville | City Hall, 1049 State Avenue, Marysville, WA 98270.
City of Mill Creek | City Hall, 15728 Main Street, Mill Creek, WA 98012.
City of Monroe | City Hall, 806 West Main Street, Engineering Department, Monroe, WA 98272.
City of Mountlake Terrace | City Hall, 6100 219th Street Southwest, Suite 200, Mountlake Terrace, WA 98043.
City of Mukilteo | City Hall, 11930 Cyrus Way, Mukilteo, WA 98275.
City of Snohomish | City Hall, 116 Union Avenue, Snohomish, WA 98290.
City of Stanwood | City Hall, 10220 270th Street Northwest, Stanwood, WA 98292.
City of Sultan | City Hall, 319 Main Street, Suite 200, Sultan, WA 98294.
Stillaguamish Tribe | 3322 236th Street Northeast, Arlington, WA 98223.
Town of Darrington | Town Hall, 1005 Cascade Street, Darrington, WA 98241.
Town of Index | Town Hall, 511 Avenue A, Index, WA 98256.
Town of Woodway | Town Hall, 23920 113th Place West, Woodway, WA 98020.
Tulalip Tribe | Natural Resources Department, 6406 Marine Drive, Tulalip, WA 98271.
Unincorporated Areas of Snohomish County | County Emergency Management Services, 3000 Rockefeller Avenue, Everett, WA 98201.

[FR Doc. 2017-28173 Filed 12-28-17; 8:45 am]

BILLING CODE 9110-12-P